DEPARTMENT OF COMMERCE

International Trade Administration

[C-560-829, C-570-023]

Certain Uncoated Paper From Indonesia and the People's Republic of China: Amended Final Affirmative Countervailing Duty Determination and Countervailing Duty Order (Indonesia) and Countervailing Duty Order (People's Republic of China)

AGENCY: Enforcement and Compliance, International Trade Administration, Department of Commerce.

SUMMARY: Based on affirmative final determinations by the Department of Commerce (the Department) and the International Trade Commission (ITC), the Department is issuing countervailing duty (CVD) orders on certain uncoated paper from Indonesia and the People's Republic of China (PRC). Also, as explained in this notice, the Department is amending its final affirmative determination with respect to Indonesia to correct the rates assigned to APRIL Fine Paper Macao Commercial Offshore Limited/PT Anugrah Kertas Utama/PT Riau Andalan Kertas/PT Intiguna Primatama/PT Riau Andalan Pulp & Paper/PT Esensindo Cipta Cemerlang (the APRIL companies); Great Champ Trading Limited (Great Champ); Indah Kiat Pulp & Paper TBK/Pabrik Kertas Tjiwi Kimia/PT Pindo Deli Pulp and Paper Mills (IK/TK/PD); and All-Others.

DATES: Effective Date: March 3, 2016.

FOR FURTHER INFORMATION CONTACT: Indonesia: David Goldberger, Office II, telephone: (202) 482-4136; PRC: Joy Zhang, Office III, telephone: (202) 482-1168; AD/CVD Operations, Enforcement and Compliance, International Trade Administration, U.S. Department of Commerce, 14th Street and Constitution Avenue NW., Washington, DC 20230.

SUPPLEMENTARY INFORMATION:

Background

On January 8, 2016, the Department issued its final determinations in the CVD investigations of certain uncoated paper from Indonesia and the PRC.¹

¹ See Certain Uncoated Paper From Indonesia: Final Affirmative Countervailing Duty Determination, 81 FR 3104 (January 20, 2016) (Indonesia Final Determination); Certain Uncoated Paper From the People's Republic of China: Final Affirmative Countervailing Duty Determination, 81 FR 3110 (January 20, 2016).

On January 19, 2016, the Department received a timely allegation from Asia Symbol (Guangdong) Paper Co., Ltd. (AS Guangdong) and its cross-owned affiliates, Asia Symbol (Guangdong) Omya Minerals Co., Ltd. (AS Omya), Asia Symbol (Shandong) Pulp & Paper Co. (AS Shandong), and Greenpoint Global Trading (Macao Commercial Offshore) Limited (Greenpoint) (collectively, Asia Symbol) that the Department made ministerial errors in the final determination in the CVD investigation of certain uncoated paper from the PRC.² On January 27, 2016, the Department received comments from the petitioners ³ on Asia Symbol's ministerial error allegation.⁴ The Department analyzed the allegation submitted by Asia Symbol and determined that no ministerial errors exist, as defined by section 705(e) of the Tariff Act of 1930, as amended (the Act), and 19 CFR 351.224(f).⁵

² See Letter from Asia Symbol, “Certain Uncoated Paper from the People's Republic of China: Ministerial Error Comments, dated January 19, 2016.

³ The petitioners are United Steel, Paper and Forestry, Rubber, Manufacturing, Energy, Allied Industrial and Service Workers International Union (USW); Domtar Corporation; Finch Paper LLC; P.H. Glatfelter Company; and Packaging Corporation of America (collectively, the petitioners).

⁴ See Letter from the petitioners, “Certain Uncoated Paper From the People's Republic of China: Petitioners' Response To Asia Symbol's Ministerial Error Comments,” dated January 27, 2016.

⁵ See Memorandum “Allegations of Ministerial Errors in the Final Determination,” dated February 1, 2016.

On January 19, 2016, the APRIL companies submitted a timely ministerial error allegation, as amended on January 28, 2016, and requested that the Department correct the alleged ministerial error in the subsidy rate calculations.⁶ No other interested party submitted ministerial error allegations or rebuttals to the APRIL companies' submissions. The Department analyzed the allegation submitted by the APRIL companies and determined that ministerial errors exist, as defined by section 705(e) of the Act and 19 CFR 351.224(f).⁷ See “Amendment to the Indonesia CVD Final Determination” section, below for further discussion.

⁶ See Letter from the APRIL companies, “Certain Uncoated Paper from Indonesia: Ministerial Error Comments,” dated January 19, 2016; Letter from the APRIL companies, “Certain Uncoated Paper from Indonesia: Amended Ministerial Error Comments—AKU—APRIL,” dated January 28, 2016.

⁷ See Memorandum “Ministerial Error Allegations in the Final Determination,” dated February 17, 2016 (Ministerial Error Decision Memorandum).

On February 22, 2016, the ITC notified the Department of its final determinations pursuant to section 705(b)(1)(A)(i) and section 705(d) of the Act, that an industry in the United States is materially injured by reason of subsidized imports of subject merchandise from Indonesia and the PRC.⁸

⁸ See Letter to Christian Marsh, Deputy Assistant Secretary of Commerce for Enforcement and Compliance, from Meredith Broadbent, Chairman of the U.S. International Trade Commission, regarding certain uncoated paper from Australia, Brazil, China, Indonesia, and Portugal (February 22, 2016). See also Certain Uncoated Paper from Australia, Brazil, China, Indonesia, and Portugal, USITC Investigation Nos. 701-TA-528-529 and 731-TA-1264-1268 (Final), USITC Publication 4592 (February 2016).

Scope of the Orders

The merchandise subject to these orders includes uncoated paper in sheet form; weighing at least 40 grams per square meter but not more than 150 grams per square meter; that either is a white paper with a GE brightness level ⁹ of 85 or higher or is a colored paper; whether or not surface-decorated, printed (except as described below), embossed, perforated, or punched; irrespective of the smoothness of the surface; and irrespective of dimensions (Certain Uncoated Paper).

⁹ One of the key measurements of any grade of paper is brightness. Generally speaking, the brighter the paper the better the contrast between the paper and the ink. Brightness is measured using a GE Reflectance Scale, which measures the reflection of light off a grade of paper. One is the lowest reflection, or what would be given to a totally black grade, and 100 is the brightest measured grade. “Colored paper” as used in this scope definition means a paper with a hue other than white that reflects one of the primary colors of magenta, yellow, and cyan (red, yellow, and blue) or a combination of such primary colors.

Certain Uncoated Paper includes (a) uncoated free sheet paper that meets this scope definition; (b) uncoated ground wood paper produced from bleached chemi-thermo-mechanical pulp (BCTMP) that meets this scope definition; and (c) any other uncoated paper that meets this scope definition regardless of the type of pulp used to produce the paper.

Specifically excluded from the scope of these orders are (1) paper printed with final content of printed text or graphics and (2) lined paper products, typically school supplies, composed of paper that incorporates straight horizontal and/or vertical lines that would make the paper unsuitable for copying or printing purposes. For purposes of this scope definition, paper shall be considered “printed with final content” where at least one side of the sheet has printed text and/or graphics that cover at least five percent of the surface area of the entire sheet.

Imports of the subject merchandise are provided for under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope is dispositive.

Amendment to the Indonesia CVD Final Determination

As discussed above, after analyzing the comments received, we determined, in accordance with section 705(e) of the Act and 19 CFR 351.224(e), that we made ministerial errors in certain calculations for the Indonesia Final Determination with respect to the APRIL companies. This amended final CVD determination corrects these errors and revises the ad valorem subsidy rate for the APRIL companies to 21.21 percent, Great Champ to 103.99 percent, IK/TK/PD to 109.14 percent, and All-Others to 21.21 percent.¹⁰

¹⁰ See Ministerial Error Decision Memorandum at 3.

Countervailing Duty Orders

In accordance with sections 705(b)(1)(A)(i) and 705(d) of the Act, the ITC notified the Department of its final determinations that the industry in the United States producing certain uncoated paper is materially injured by reason of subsidized imports of certain uncoated paper from Indonesia and the PRC. Therefore, in accordance with section 705(c)(2) of the Act, we are publishing these CVD orders.

As a result of the ITC's final determinations, in accordance with section 706(a) of the Act, the Department will direct U.S. Customs and Border Protection (CBP) to assess, upon further instruction by the Department, CVDs on unliquidated entries of certain uncoated paper entered, or withdrawn from warehouse, for consumption on or after June 29, 2015, the date on which the Department published its preliminary CVD determinations in the Federal Register,¹¹ and before October 27, 2015, the date on which the Department instructed CBP to discontinue the suspension of liquidation in accordance with section 703(d) of the Act. Section 703(d) of the Act states that the suspension of liquidation pursuant to a preliminary determination may not remain in effect for more than four months. Therefore, entries of certain uncoated paper made on or after October 27, 2015, and prior to the date of publication of the ITC's final determinations in the Federal Register are not liable for the assessment of CVDs due to the Department's discontinuation, effective October 27, 2015, of the suspension of liquidation.

¹¹ See Certain Uncoated Paper From Indonesia: Preliminary Affirmative Countervailing Duty Determination and Alignment of Final Determination With Final Antidumping Determination, 80 FR 36971 (June 29, 2015); Certain Uncoated Paper From the People's Republic of China: Preliminary Affirmative Countervailing Duty Determination and Alignment of Final Determination With Final Antidumping Determination, 80 FR 36968 (June 29, 2015).

Suspension of Liquidation

In accordance with section 706 of the Act, the Department will direct CBP to reinstitute the suspension of liquidation of certain uncoated paper from Indonesia and the PRC, effective the date of publication of the ITC's notice of final determinations in the Federal Register, and to assess, upon further advice by the Department pursuant to section 706(a)(1) of the Act, CVDs for each entry of the subject merchandise in an amount based on the net countervailable subsidy rates for the subject merchandise. On or after the date of publication of the ITC's final injury determinations in the Federal Register, CBP must require, at the same time as importers would normally deposit estimated duties on this merchandise, a cash deposit equal to the rates noted below:

Indonesia

Company | Amended subsidy rate (percent)
APRIL Fine Paper Macao Commercial Offshore Limited/PT Anugrah Kertas Utama/PT Riau Andalan Kertas/PT Intiguna Primatama/PT Riau Andalan Pulp & Paper/PT Esensindo Cipta Cemerlang | 21.21
Great Champ Trading Limited | 103.99
Indah Kiat Pulp & Paper TBK/Pabrik Kertas Tjiwi Kimia/PT Pindo Deli Pulp and Paper Mills | 109.14
All-Others | 21.21

People's Republic of China

Company | Subsidy rate (percent)
Asia Symbol (Guangdong) Paper Co., Ltd. (AS Guangdong), Asia Symbol (Shandong) Pulp & Paper Co., Ltd. (AS Shandong), Asia Symbol (Guangdong) Omya Minerals Co., Ltd. (AS Omya), and Greenpoint Global Trading (Macao Commercial Offshore) Limited (Greenpoint) (collectively, Asia Symbol Companies) | 7.23
Shandong Sun Paper Industry Joint Stock Co., Ltd. (Shandong Sun Paper), and Sun Paper (Hong Kong) Co., Ltd. (Sun Paper HK) (collectively, Sun Paper Companies) | 176.75
UPM (China) Co. Ltd. (UPM) | 176.75
All-Others | 7.23

This notice constitutes the CVD orders with respect to certain uncoated paper from Indonesia and the PRC, pursuant to section 706(a) of the Act. Interested parties may contact the Department's Central Records Unit, Room B8024 of the main Commerce Building, for a copy of an updated list of CVD orders currently in effect.

These orders are issued and published in accordance with section 706(a) of the Act and 19 CFR 351.211(b).

Dated: February 25, 2016.
Paul Piquado,
Assistant Secretary for Enforcement and Compliance.

[FR Doc. 2016-04717 Filed 3-2-16; 8:45 am]

BILLING CODE 3510-DS-P